DEPARTMENT OF THE TREASURY

Internal Revenue Service

26 CFR Part 601

[REG-133578-05]

RIN 1545-BE74

Dividends Paid Deduction for Stock Held in Employee Stock Ownership Plan; Hearing

AGENCY: Internal Revenue Service (IRS), Treasury.

ACTION: Notice of public hearing on proposed rulemaking.

SUMMARY: This document contains a notice of public hearing on proposed regulations relating to employee stock ownership plans.

DATES: The public hearing is being held on January 18, 2006, at 10 a.m. The IRS must receive outlines of the topics to be discussed at the hearing by November 23, 2005.

ADDRESSES: The public hearing is being held at 10 a.m. in the IRS Auditorium, Internal Revenue Service Building, 1111 Constitution Avenue, NW., Washington, DC. Send submissions to: CC:PA:LPD:PR (REG-133578-05), room 5203, Internal Revenue Service, POB 7604, Ben Franklin Station, and Washington, DC 20044. Submissions may be hand delivered between the hours of 8 a.m. and 4 p.m. to CC:PA:LPD:PR (REG-133578-05), Courier's Desk, Internal Revenue Service, 1111 Constitution Avenue NW., Washington, DC. Alternatively, taxpayers may submit electronic outlines of oral comments directly to the IRS Internet site at http://www.irs.gov/regs.

FOR FURTHER INFORMATION: Concerning the regulations, John T. Ricotta (202) 622-6060; concerning submissions, Robin Jones (202) 622-7109 (not toll-free numbers).

SUPPLEMENTARY INFORMATION: The subject of the public hearing is the notice of proposed rulemaking (REG-133578-05) that was published in the Federal Register on August 25, 2005 (70 FR 49897).

The rules of 26 CFR 601.601(a)(3) apply to the hearing.

Persons who wish to present oral comments at the hearing that submitted written or electronic comments, must submit an outline of the topics to be discussed and the amount of time to be devoted to each topic (signed original and eight (8) copies).

A period of 10 minutes is allotted to each person for presenting oral comments.

After the deadline for receiving outlines has passed, the IRS will prepare an agenda containing the schedule of speakers. Copies of the agenda will be made available, free of charge, at the hearing.

Because of access restrictions, the IRS will not admit visitors beyond the immediate entrance area more than 30 minutes before the hearing starts. For information about having your name placed on the building access list to attend the hearing, see the FOR FURTHER INFORMATION CONTACT section of this document.

Cynthia E. Grigsby,
Acting Chief, Publications and Regulations Branch, Legal Processing Division, Associate Chief Counsel, (Procedure and Administration).

[FR Doc. 05-19390 Filed 9-28-05; 8:45 am]

BILLING CODE 4830-01-P